CORPORATION FOR NATIONAL AND COMMUNITY SERVICE

Agency Information Collection Activities; Submission to the Office of Management and Budget for Review and Approval; Comment Request; AmeriCorps Alumni Outcome Survey; Proposed Information Collection; Comment Request

AGENCY: Corporation for National and Community Service.

ACTION: Notice.

SUMMARY: The Corporation for National and Community Service (CNCS) has submitted a public information collection request (ICR) entitled AmeriCorps Alumni Outcome Survey for review and approval in accordance with the Paperwork Reduction Act of 1995.

DATES: Comments may be submitted, identified by the title of the information collection activity, by May 14, 2018.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, Anthony Nerino, at 202-606-3913 or email to anerino@cns.gov. Individuals who use a telecommunications device for the deaf (TTY-TDD) may call 1-800-833-3722 between 8:00 a.m. and 8:00 p.m. Eastern Time, Monday through Friday.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on January 17, 2018 (Vol. 83, No 11, p. 2429). This comment period ended March 17, 2018. No public comments were received from this Notice.

Description: CNCS seeks to renew the current information request with revisions to the survey administered in 2015 (OMB #3045-0170). Information will be collected from a nationally representative sample of AmeriCorps alumni who served in AmeriCorps NCCC, AmeriCorps VISTA, and AmeriCorps State and National programs and completed their most recent term of service 2, 5, or 10 years ago.

There are no revisions to the survey instrument. The information collection will administered in the same manner to ensure comparability with the initial responses. CNCS also seeks to continue using the current application until the revised application is approved by OMB. The current application is due to expire on 4/30/2018.

Type of Review: Renewal.

Agency: Corporation for National and Community Service.

Title: AmeriCorps Alumni Outcome Study.

OMB Number: #3045-0170.

Agency Number: None.

Affected Public: AmeriCorps Alumni who served during the period from 2008 until 2018.

Total Respondents: 3150.

Frequency: One time.

Average Time per Response: 22 Minutes.

Estimated Total Burden Hours: 1155 Hours.

Total Burden Cost (capital/startup): None.

Total Burden Cost (operating/maintenance): None.

Dated: March 30, 2018.
Mary Hyde,
Director of Research and Evaluation.

[FR Doc. 2018-07683 Filed 4-12-18; 8:45 am]

BILLING CODE 6050-28-P